DEPARTMENT OF HEALTH AND HUMAN SERVICES

Centers for Disease Control and Prevention

[60Day-04-04KC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

EPI-AID Recommendations for Effective Control and Prevention—New—Epidemiology Program Office (EPO), Centers for Disease Control and Prevention (CDC).

Background & Brief Description:

CDC is requesting a 3-year approval to collect data from epidemiologic aid investigations. The purpose of this data collection is to assess the number and proportion of Epidemic AID (EPI-AID) investigations that provide practical recommendations for effective control and prevention. The EPI-AID mechanism is a means for Epidemic Intelligence Service (EIS) officers of the Centers for Disease Control and Prevention (CDC), along with other CDC staff, to provide technical support to state health agencies requesting assistance for epidemiologic field investigations (disease outbreaks or health emergencies).

Currently, Epi Trip Reports are delivered to the state health agency official requesting assistance shortly after completion of the EPI-AID investigation. This official can comment on both the timeliness and the practical utility of the recommendations from the investigation. Upon completion of the EPI-AID investigation, requesting officials at the state or local health department will be asked to complete a brief questionnaire to assess the promptness of the investigation and the usefulness of the recommendations.

This data collection methodology will improve the EPI-AID mechanism which allows CDC to respond rapidly to public health problems in need of urgent attention, thereby providing an important service to state and other public health agencies; and to provide supervised training opportunities for EIS officers (and, sometimes, other CDC trainees) to actively participate in epidemiologic investigations. There are no costs to respondents.

Annualized Burden Table
Respondents | No. of respondents | Number of responses per respondent | Average burden per response (in hrs.) | Total burden hours
EPI-AID Requests | 100 | 1 | 10/60 | 17
Total | 100 |  |  | 17

Dated: August 30, 2004.
Alvin Hall,
Director, Management Analysis and Services Office, Centers for Disease Control and Prevention.

[FR Doc. 04-20409 Filed 9-8-04; 8:45 am]

BILLING CODE 4163-18-P